DEPARTMENT OF THE TREASURY

Fiscal Service

Surety Companies Acceptable on Federal Bonds; Change in Business Address and Redomestication; First National Insurance Company of America (NAIC #24724); General Insurance Company of America (NAIC #24732); SAFECO Insurance Company of America (NAIC #24740)

AGENCY: Financial Management Service, Fiscal Service, Department of the Treasury.

ACTION: Notice.

SUMMARY: This is Supplement No. 15 to the Treasury Department Circular 570, 2011 Revision, published July 1, 2011, at 76 FR 38892.

FOR FURTHER INFORMATION CONTACT: Surety Bond Branch at (202) 874-6850.

SUPPLEMENTARY INFORMATION: Notice is hereby given by the Treasury that the above-named companies formally changed their “BUSINESS ADDRESS” to “62 Maple Avenue, Keene, NH 03431” effective immediately. In addition, the above named companies have redomesticated from the state of Washington to the state of New Hampshire effective January 13, 2012. Federal bond-approving officers should annotate their reference copies of the Treasury Circular 570 (“Circular”), 2011 Revision, to reflect these changes.

The Circular may be viewed and downloaded through the Internet at http://www.fms.treas.gov/c570.

Questions concerning this Notice may be directed to the U.S. Department of the Treasury, Financial Management Service, Financial Accounting and Services Division, Surety Bond Branch, 3700 East-West Highway, Room 6F01, Hyattsville, MD 20782.

Dated: March 18, 2012.
Laura Carrico,
Director, Financial Accounting and Services Division, Financial Management Service.

[FR Doc. 2012-7305 Filed 3-27-12; 8:45 am]

BILLING CODE 4810-35-M